FEDERAL MARITIME COMMISSION

Ocean Transportation Intermediary License Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 003512N.

Name: Urie Transportation Management, Incorporated, dba U.S. Northwest Express, dba USNW Express.

Address: 5150 Village Park Drive SE., Suite 100, Bellevue, WA 98006.

Date Revoked: August 22, 2011.

Reason: Failed to maintain a valid bond.

License Number: 021094N.

Name: Amid Logistics, LLC.

Address: 10 Florida Park Drive N., Suite D-1A, Palm Coast, FL 32137.

Date Revoked: May 23, 2011.

Reason: Voluntarily surrendered license.

License Number: 021268F.

Name: Scan Global Logistics, Inc.

Address: 650 Atlanta South Parkway, Suite 109, Atlanta, GA 30349.

Date Revoked: August 19, 2011.

Reason: Failed to maintain a valid bond.

Sandra L. Kusumoto,
Director, Bureau of Certification and Licensing.

[FR Doc. 2011-25171 Filed 9-29-11; 8:45 am]

BILLING CODE 6730-01-P